DEPARTMENT OF THE INTERIOR

Bureau of Land Management

[OR-957-00-6334-bj: GP07-0152]

Filing of Plats of Survey: Oregon/Washington

AGENCY: U.S. Department of the Interior, Bureau of Land Management.

ACTION: Notice.

SUMMARY: The plats of survey of the following described lands were officially filed in the Bureau of Land Management Oregon/Washington State Office, Portland, Oregon, on May 25, 2007.

Willamette Meridian

Washington

T. 28 N., R. 38 E., accepted March 29, 2007.

T. 28 N., R. 38 E., accepted March 30, 2007.

T. 27 N., R. 39 E., accepted March 30, 2007.

T. 27 N., R. 38 E., accepted March 30, 2007.

T. 28 N., R. 39 E., accepted March 30, 2007.

Oregon

T. 15 S., R. 7 W., accepted March 30, 2007.

The plats of survey of the following described lands are scheduled to be officially filed in the Bureau of Land Management Oregon/Washington State Office, Portland, Oregon, 30 days from the date of this publication.

Willamette Meridian

Washington

T. 21 N., R. 4 W., accepted May 10, 2007.

T. 3 N., R. 19 E., accepted May 10, 2007.

T. 33 N., R. 15 W., accepted June 1, 2007.

T. 33 N., R. 14 W., accepted June 1, 2007.

T. 17 N., R. 10 E., accepted June 1, 2007.

T. 21 N., R. 11 W., accepted June 6, 2007.

T. 22 N., R. 11 W., accepted June 14, 2007.

T. 15 N., R. 11 E., accepted June 21, 2007.

Oregon

T. 6 S., R. 30 E., accepted June 6, 2007.

T. 1 S., R. 7 W., accepted June 6, 2007.

T. 17 S., R. 2 W., accepted June 6, 2007.

T. 13 S., R. 6 W., accepted June 14, 2007.

T. 27 S., R. 10 W., accepted June 21, 2007.

T. 29 S., R. 8 W., accepted June 27, 2007.

T. 16 S., R. 2 W., accepted June 27, 2007.

A copy of the plats may be obtained from the Land Office at the Oregon/Washington State Office, Bureau of Land Management, 333 SW. 1st Avenue, Portland, Oregon 97204, upon required payment. A person or party who wishes to protest against a survey must file a notice that they wish to protest (at the above address) with the Oregon/Washington State Director, Bureau of Land Management, Portland, Oregon.

FOR FURTHER INFORMATION CONTACT: Chief, Branch of Geographic Sciences, Bureau of Land Management, (333 SW. 1st Avenue) P.O. Box 2965, Portland, Oregon 97208.

Dated: July 25, 2007.
Fred O'Ferrall,
Branch of Lands and Minerals Resources.

[FR Doc. E7-15559 Filed 8-8-07; 8:45 am]

BILLING CODE 4310-33-P